DEPARTMENT OF ENERGY

[FE Docket Nos. 12-105-NG; 12-106-NG; 12-107-NG; 12-108-NG ; 12-109-NG; 12-123-LNG; 12-128-NG; 12-148-NG; 12-158-NG]

Puget Sound Energy, Inc.; Puget Sound Energy, Inc.; Puget Sound Energy, Inc.; Puget Sound Energy, Inc.; Puget Sound Energy, Inc.; CE FLNG, LLC; Consolidated Edison Company of New York, Inc. and Orange Rockland Utilities, Inc.; TAQA North; CIMA Energy Ltd.; Orders Granting Authority To Import and Export Natural Gas, To Export Liquefied Natural Gas and Vacating Prior Authority During November 2012

AGENCY: Office of Fossil Energy, Department of Energy (DOE).

ACTION: Notice of orders.

SUMMARY: The Office of Fossil Energy (FE) of the Department of Energy gives notice that during November 2012, it issued orders granting authority to import and export natural gas and liquefied natural gas and vacating prior authority. These orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on February 14, 2013.
John A. Anderson,
Manager, Natural Gas Regulatory Activities, Office of Oil and Gas Global Security and Supply, Office of Fossil Energy.

Appendix

DOE/FE Orders Granting Import/Export Authorizations
Order No. | Date issued | FE Docket No. | Authorization holder | Description of action
3185 | 11/13/12 | 12-105-NG | Puget Sound Energy, Inc | Order granting long-term authority to import/export natural gas from/to Canada.
3186 | 11/13/12 | 12-106-NG | Puget Sound Energy, Inc | Order granting long-term authority to import/export natural gas from/to Canada.
3187 | 11/13/12 | 12-107-NG | Puget Sound Energy, Inc | Order granting long-term authority to import/export natural gas from/to Canada.
3188 | 11/13/12 | 12-108-NG | Puget Sound Energy, Inc | Order granting long-term authority to import/export natural gas from/to Canada.
3189 | 11/13/12 | 12-109-NG | Puget Sound Energy, Inc | Order granting long-term authority to import/export natural gas from/to Canada.
3190 | 11/13/12 | 12-128-NG | Consolidated Edison Company of New York, Inc. and Orange and Rockland Utilities, Inc | Order granting blanket authority to import/export natural gas from/to Canada, and vacating prior authority in DOE/FE Order No. 2894.
3191 | 11/13/12 | 12-148-NG | TAQA North | Order granting blanket authority to import natural gas from Canada.
3192 | 11/15/12 | 12-158-NG | CIMA Energy, Ltd | Order granting blanket authority to import/export natural gas from/to Canada/Mexico.
3193 | 11/21/12 | 12-123-LNG | CE FLNG, LLC | Order granting long-term multi-contract authority to export LNG by vessel from the proposed CE FLNG Terminal in Plaquemines Parish, Louisiana, to Free Trade Agreement nations.

[FR Doc. 2013-04773 Filed 2-28-13; 8:45 am]

BILLING CODE 6450-01-P